AGENCY FOR INTERNATIONAL DEVELOPMENT

30-Day Notice of Proposed Information Collection

AGENCY: U.S. Agency for International Development.

ACTION: Notice of public information collection.

SUMMARY: The U.S. Agency for International Development (USAID) seeks Office of Management and Budget (OMB) approval for the information collection described below. In accordance with the Paperwork Reduction Act of 1995, USAID requests public comment on this collection from all interested individuals and organizations.

DATES: Submit comments on or before January 15, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Wayne Cohee, at (202) 230-4575 or via email at policymailbox@usaid.gov.

SUPPLEMENTARY INFORMATION: USAID previously published a Notice of Public Information Collection in the Federal Register on September 23, 2024 at 87 FR 77471 allowing for a 60-day public comment period. That Notice published the intent of USAID to seek a revision to OMB approval number 0412-0510 to allow information collections that would be required by the future addition of three new Standard Provisions in USAID's Automated Directives System (ADS) Chapter 303, USAID Grants and Cooperative Agreements to Non-Governmental Organizations. The three new Standard Provisions would be entitled: 1. Activity Monitoring, Evaluation, and Learning Plans (AMELPs); 2. Planning, Collection, and Submission of Digital Information to USAID With Data Management Plan (DMP); and 3. Planning, Collection, and Submission of Digital Information to USAID Without Data Management Plan (DMP).

In response to a comment received on the 60-day notice, in which the respondent asked if USAID intends to publish the full text of the three new Standard Provisions, USAID will include the draft text of the three new Standard Provisions as an attachment to this notice in the docket on https://www.regulations.gov/.

The purpose of this notice is to allow an additional 30 days for public comment. Comments are requested concerning: (a) whether the proposed collection of information is necessary for the proper performance of functions of the agency, including the practical utility of the information; (b) the accuracy of USAID's estimate of the burden of the proposed collection of information; (c) ways to enhance the quality, utility, and clarity of the information collected; and (d) ways to minimize the burden of the collection of information on respondents.

All comments must be in writing and submitted through the method(s) specified in the Addresses section above. All submissions must include the information collection title.

Please include your name, title, organization, postal address telephone number, and email address in the text of the message. Please note that comments submitted in response to this Notice are public record. We recommend that you do not submit detailed personal information, Confidential Business Information, or any information that is otherwise protected from disclosure by statute.

USAID will only address comments that explain why the proposed collection would be inappropriate, ineffective, or unacceptable without a change. Comments that are insubstantial or outside the scope of the notice of request for public comment may not be considered.

OMB No: 0412-0510.

Form: No Form associated with this collection.

Title of Information Collection: United States Agency for International Development (USAID) Automated Directives System (ADS) Chapter 303 Standard Provisions Information Collection.

Type of Review: Revision of a currently approved collection (OMB No. 0412-0510).

Purpose: USAID is authorized to make grants to and enter cooperative agreements with Non-Governmental Organizations in or outside of the United States in furtherance of the purposes and within limitations of the Foreign Assistance Act (FAA). The information collection requirements placed on the public are published in Standard Provisions that are included, as required or as applicable, in Notices of Funding Opportunities to potential applicants and resulting awards to recipients. The pre-award requirements are based on a need for prudent management in the determination that an applicant either has or can obtain the ability to competently manage development assistance programs using public funds. The requirements for information collection during the post-award period are based on the need to prudently administer public funds.

Respondents: USAID grant and cooperative agreement applicants and recipients.

For the Three New Standard Provisions (total):

Estimated Number of Annual Responses: 2,525.

Estimated Number of Annual Burden Hours: 123,725.

Estimated Total Public Burden (in cost): $7,299,775.

These estimated totals were calculated using the below burden estimates per response for each of the named Standard Provisions, which are published internally in the Agency's ADS Chapter 303 and included by Agreement Officers, as required or as applicable, in Notices of Funding Opportunities and resulting awards:

Activity Monitoring, Evaluation, and Learning Plan (TBD 2025)—65 hours.

Submission of Digital Information with a Data Management Plan (TBD 2025)—53 hours.

Submission of Digital Information without a Data Management Plan (TBD 2025)—9 hours.

Jami J. Rodgers,
Senior Procurement Executive, USAID.

[FR Doc. 2024-29512 Filed 12-13-24; 8:45 am]

BILLING CODE 6116-01-P